DEPARTMENT OF COMMERCE

National Oceanic and Atmospheric Administration

50 CFR Part 635

[Docket No. 140207123-4405-01]

RIN 0648-BD96

Atlantic Highly Migratory Species; North and South Atlantic 2014 Commercial Swordfish Quotas

AGENCY: National Marine Fisheries Service (NMFS), National Oceanic and Atmospheric Administration (NOAA), Commerce.

ACTION: Proposed rule; request for comments.

SUMMARY: This proposed rule would adjust the 2014 fishing season quotas for North and South Atlantic swordfish based upon 2013 commercial quota underharvests and international quota transfers consistent with the International Commission for the Conservation of Atlantic Tunas (ICCAT) Recommendations 13-02 and 13-03. Additionally, this proposed rule would modify the regulations to comply with future changes to the North Atlantic swordfish underharvest carryover limits, which become effective in 2015. This proposed rule could affect commercial and recreational fishing for swordfish in the Atlantic Ocean, including the Caribbean Sea and Gulf of Mexico. This action implements ICCAT recommendations, consistent with the Atlantic Tunas Convention Act (ATCA), and furthers domestic management objectives under the Magnuson-Stevens Fishery Conservation and Management Act (Magnuson-Stevens Act).

DATES: Written comments must be received by June 13, 2014. An operator-assisted, public conference call and webinar will be held on June 5, 2014, from 1:00 p.m. to 4:00 p.m., EST.

ADDRESSES: The conference call information is phone number 650-479-3207; participant pass code 995 328 809. Participants are strongly encouraged to log/dial in fifteen minutes prior to the meeting. NMFS will show a brief presentation via webinar followed by public comment. To join the webinar go to: https://noaa-meets.webex.com/noaa-meets/j.php?MTID=mbec5ad6bcd832af41ef2ad34b64b498d, enter your name and email address, and click the “JOIN” button. Participants that have not used WebEx before will be prompted to download and run a plug-in program that will enable them to view the webinar.

You may submit comments on this document, identified by NOAA-NMFS-2014-0054, by any of the following methods:

Electronic Submission: Submit all electronic public comments via the Federal e-Rulemaking Portal. Go to www.regulations.gov/#!docketDetail;D=NOAA-NMFS-2014-0054, click the “Comment Now!” icon, complete the required fields, and enter or attach your comments.

Mail: Submit written comments to Margo Schulze-Haugen, NMFS/SF1, 1315 East-West Highway, National Marine Fisheries Service, SSMC3, Silver Spring, MD 20910.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

The call-in information for the public hearing is phone number 650-479-3207; participant pass code 995 328 809. We will also provide a brief presentation via webinar. Participants can join the webinar at https://noaa-meets.webex.com/noaa-meets/j.php?MTID=mbec5ad6bcd832af41ef2ad34b64b498d. Enter your name and email address, and click the “JOIN” button. Participants that have not used WebEx before will be prompted to download and run a plug-in program that will enable them to view the webinar. Presentation materials and other supporting information will be posted on the HMS Web site at: http://www.nmfs.noaa.gov/sfa/hms.

Copies of the supporting documents—including the 2012 Environmental Assessment (EA), Regulatory Impact Review (RIR), and Final Regulatory Flexibility Analysis (FRFA) for North Atlantic swordfish; the 2007 EA, RIR, and FRFA for South Atlantic swordfish; and the 2006 Consolidated Atlantic Highly Migratory Species Fishery Management Plan and associated documents—are available from the HMS Management Division Web site at http://www.nmfs.noaa.gov/sfa/hms/ or by contacting Alexis Jackson by phone at 301-427-8503.

FOR FURTHER INFORMATION CONTACT: Alexis Jackson by phone at 301-427-8503 or Steve Durkee by phone at 202-670-6637.

SUPPLEMENTARY INFORMATION:

Background

The U.S. Atlantic swordfish fishery is managed under the 2006 Consolidated Highly Migratory Species (HMS) Fishery Management Plan (FMP). Implementing regulations at 50 CFR part 635 are issued under the authority of the Magnuson-Stevens Act, 16 U.S.C. 1801 et seq., and ATCA, 16 U.S.C. 971 et seq. ATCA authorizes the Secretary of Commerce (Secretary) to promulgate regulations, as may be necessary and appropriate to implement ICCAT recommendations.

North Atlantic Swordfish Quota

At the 2013 ICCAT annual meeting, Recommendation 13-02 was adopted, maintaining the North Atlantic swordfish total allowable catch (TAC) of 10,301 metric tons (mt) dressed weight (dw) (13,700 mt whole weight (ww)) through 2016. Of this TAC, the United States' baseline quota is 2,937.6 mt dw (3,907 mt ww) per year. ICCAT Recommendation 13-02 also includes an 18.8 mt dw (25 mt ww) annual quota transfer from the United States to Mauritania and limits allowable 2013 underharvest carryover to 25 percent of a contracting party's baseline quota. Underharvest accrued in 2014 and beyond is limited to 15 percent of a contracting party's baseline quota. Therefore, the United States may carry over a maximum of 734.4 mt dw (976.8 mt ww) of underharvest from 2013 and add it to the 2014 baseline quota. This proposed rule would adjust the U.S. baseline quota for the 2014 fishing year to account for the annual quota transfer to Mauritania and the 2013 underharvest. Additionally, this proposed rule considers modifying the regulations to comply with the reduced underharvest carryover limit, which becomes effective in 2015 and thus would apply to underharvest accrued in 2014 and beyond.

The preliminary North Atlantic swordfish underharvest for 2013 was 1,480.4 mt dw as of December 31, 2013; therefore, NMFS is proposing to carry forward 734.4 mt dw, the maximum carryover allowed per ICCAT Recommendation 13-02. The 2,937.6 mt dw baseline quota would be reduced by the 18.8 mt dw annual quota transfer to Mauritania and increased by the underharvest carryover maximum of 734.4 mt dw, resulting in 3,653.2 mt dw (2,937.6 − 18.8 + 734.4 = 3,653.2 mt dw), which is the proposed adjusted North Atlantic swordfish quota for the 2014 fishing year. From that proposed adjusted quota, 50 mt dw would be allocated to the reserve category for inseason adjustments and research, and 300 mt dw would be allocated to the incidental category, which includes recreational landings and landings by incidental swordfish permit holders, for the 2014 fishing season, per § 635.27(c)(1)(i)(B). This would result in an allocation of 3,303.2 mt dw (3,653.2−50−300 = 3,303.2 mt dw) for the directed category, which would be split equally between two seasons in 2014 (January through June, and July through December) (Table 1).

The preliminary landings and proposed adjusted quota for North Atlantic swordfish are based on commercial dealer reports and reports by anglers in the HMS Non-Tournament Recreational Swordfish and Billfish Landings Database and the Recreational Billfish Survey received as of December 31, 2013, and do not include dead discards or late landings reports. The estimates are preliminary and have not yet undergone quality control and assurance procedures. NMFS will adjust the quotas in the final rule based on updated data, including dead discard data, if available. Note that the United States has carried over the full amount of underharvest allowed under ICCAT recommendations for the past several years, and NMFS does not expect fishing activity to vary significantly from these past years. For the final adjusted quota to deviate from the proposed quota, the sum of updated landings data (from late reports) and dead discard estimates would need to reach or exceed 746.0 mt dw, which is the difference between the current estimate of the 2013 underharvest (1,480.4 mt dw) and the maximum carryover cap of 734.4 mt dw (1,480.4−734.4 = 746.0 mt dw). In 2012, dead discards were estimated to equal 194.0 mt dw and late reports equaled 201.3 mt dw. Consequently, NMFS does not believe updated data and dead discard estimates will alter the proposed adjusted quota. Thus, while the 2014 proposed North Atlantic swordfish quota is subject to further adjustments and this rule notifies the public of that potential change, NMFS does not expect the final quota to change from the proposed quota.

In addition to adjusting the quota, this proposed rule considers modifying regulatory text to reflect an upcoming change in the underharvest carryover limit. Recommendation 13-02 reduced the amount of underharvest that may be carried forward to 15 percent of the baseline quota, effective in 2015. Therefore, if this rule is implemented, the 2013 underharvest would be the last year subject to the 25 percent carryover limit; the underharvest in 2014 and subsequent years would not be able to exceed 15 percent of the baseline quota. This proposed rule will consider these changes.

South Atlantic Swordfish Quota

In 2013, ICCAT Recommendation 13-03 established the South Atlantic swordfish TAC at 11,278.2 mt dw (15,000 mt ww) for 2014, 2015, and 2016. Of this, the United States received 75.2 mt dw (100 mt ww). ICCAT Recommendation 13-03 limits the amount of South Atlantic swordfish underharvest that can be carried forward. For South Atlantic swordfish, the United States may carry forward up to 100 percent of the baseline quota (75.2 mt dw). Recommendation 13-03 also included a total of 75.2 mt dw (100 mt ww) of quota transfers from the United States to other countries. These transfers were 37.6 mt dw (50 mt ww) to Namibia, 18.8 mt dw (25 mt ww) to Côte d'Ivoire, and 18.8 mt dw (25 mt ww) to Belize.

In 2013, U.S. fishermen landed 0.1 mt dw of South Atlantic swordfish as of December 31, 2013. Therefore, 75.1 mt dw of underharvest is available to carry over to 2014. NMFS is proposing to carry forward 75.1 mt dw to be added to the 75.2 mt dw baseline quota. The quota would then be reduced by the 75.2 mt dw of annual international quota transfers outlined above, resulting in 75.1 mt dw, which is the proposed adjusted South Atlantic swordfish quota for the 2014 fishing year.

As with the landings and proposed quota for North Atlantic swordfish, the South Atlantic swordfish landings and proposed quota are based on dealer reports received as of December 31, 2013, do not include dead discards or late landings reports, and are preliminary landings estimates that have not yet undergone quality control and assurance procedures. NMFS will adjust the quotas in the final rule based on any updated data, including dead discard data, if available. Thus, the 2014 proposed South Atlantic swordfish quota is subject to further adjustments. However, the United States has only landed South Atlantic swordfish twice in the past several years (0.2 mt dw in April 2010 and 0.1 mt dw in April 2013) and therefore does not anticipate additional landings or discard data that would change the final quota from the proposed quota.

Table 1—2014 North and South Atlantic Swordfish Quotas
North Atlantic Swordfish Quota (mt dw) | 2013 | 2014
Baseline Quota | 2,937.6 | 2,937.6.
International Quota Transfer | (−)112.8 (to Morocco) | (−)18.8 (to (Mauritania).
Total Underharvest from Previous Year + | 814.1 | 1,480.4.
Underharvest Carryover from Previous Year + | (+)734.4 | (+)734.4.
Adjusted Quota | 3,559.2 | 3,653.2.
Quota Allocation | Directed Category | 3,209.2 | 3,303.2.
| Incidental Category | 300 | 300.
| Reserve Category | 50 | 50.
South Atlantic Swordfish Quota (mt dw) | 2013 | 2014
Baseline Quota | 75.2 | 75.2.
International Quota Transfers * | (−)75.2 | (−)75.2.
Total Underharvest from Previous Year + | 75.2 | 75.1.
Underharvest Carryover from Previous Year + | 75.2 | 75.1.
Adjusted quota | 75.2 | 75.1.
+ 2013 underharvest carryover is capped at 25 percent of the baseline quota allocation for the North Atlantic and 75.2 dw (100 mt ww) for the South Atlantic. 2013 underharvest current as of December 31, 2013; does not include dead discards, late reports, or changes to the data as a result of quality control adjustments.
* Under Recommendation 13-03, 100 mt ww of the U.S. underharvest and baseline quota, as necessary, was transferred to Namibia (37.6 mt dw, 50 mt ww), Côte d'Ivoire (18.8 mt dw, 25 mt ww), and Belize (18.8 mt dw, 25 mt ww).

Ecological and Socioeconomic Impacts

The ecological and socio-economic impacts of continued harvesting of substantially the same amount of annual baseline quota proposed in the 2014 North Atlantic swordfish specifications were analyzed in the EA, RIR, and FRFA that were prepared for the 2012 swordfish quota specifications final rule (July 31, 2012; 77 FR 45273). Similarly, the impacts of harvesting the amount of annual baseline quota proposed in the 2014 South Atlantic swordfish specifications were analyzed in the EA, RIR, and FRFA that were prepared for the 2007 Swordfish Quota Specification Final Rule (October 5, 2007; 72 FR 56929).

The proposed North Atlantic swordfish quota adjustments would result in an adjusted quota similar to that analyzed in the 2012 EA, RIR, and FRFA (3,559.2 mt dw) and in subsequent years (2013 final adjusted quota = 3,559.2 mt dw, and 2014 proposed adjusted quota = 3,653.2 mt dw, which is an increase of 94 mt dw). The 2014 proposed quota is not expected to increase fishing effort, protected species interactions, or environmental effects in a manner not considered in the 2012 EA. Implementing ICCAT Recommendation 13-02 would result in two minor changes in the adjusted quota calculation methodology that, once effective, would result in a reduction in the overall adjusted quota relative to previous years. First, ICCAT Recommendation 13-02 reduces the underharvest carryover limit beginning in 2015. Any underharvest available to be carried over from 2013 to 2014 would be capped at 25 percent of the baseline quota, but beginning in 2015, the underharvest carryover limit would be 15 percent of the baseline quota. In the 2012 EA, North Atlantic swordfish underharvest carryovers less than or equal to 25 percent were analyzed. Since the proposed change in the underharvest carryover limit is within this range (i.e., it is less than 25 percent), the change has been previously analyzed. Furthermore, once effective, the reduction in the underharvest carryover limit would result in a lower overall North Atlantic swordfish adjusted quota. For these reasons, additional NEPA analysis regarding the underharvest carryover limit is not necessary.

The second change in the adjusted quota calculation methodology from ICCAT Recommendation 13-02 is the elimination of the 112.8 mt dw quota transfer to Morocco and the introduction of a lower 18.8 mt dw quota transfer to Mauritania. This change in the quota transfer amount effectively results in a 3-percent increase to the North Atlantic adjusted quota in 2014 (from 3,559.2 mt dw in 2013 to 3,653.2 mt dw in 2014). No additional NEPA analysis is needed for the change in international quota transfers. As mentioned above, the ecological and socio-economic impacts of continued harvesting of substantially the same amount of annual baseline quota proposed in the 2014 North Atlantic swordfish specifications was analyzed in 2012 and no additional impacts are expected from the small increase. It would not result in an increase in overall quota, fishing effort, or interactions with directed, incidental, or bycatch species. Thus, NMFS has determined that the North Atlantic swordfish quota portion of the specifications and impacts to the human environment as a result of the proposed quota adjustments do not require additional NEPA analysis beyond that discussed in the 2012 EA.

The proposed South Atlantic swordfish quota adjustments would not change overall quotas and are not expected to increase fishing effort, protected species interactions, or environmental effects beyond those analyzed in the 2007 EA. While ICCAT conducted a stock assessment for South Atlantic swordfish, due to uncertainties in the analyses and newly derived stock status, the committee has not altered the stock status or TAC from the previous ICCAT recommendation in place when 2007 EA analyses were conducted. Therefore, because there would be no changes to the South Atlantic swordfish management measures in this proposed rule, or to the affected environment or any environmental effects that have not been previously analyzed, NMFS has determined that the South Atlantic swordfish quota portion of the specifications and impacts to the human environment as a result of the proposed quota adjustments do not require additional NEPA analysis beyond that analyzed in the 2007 EA.

Request for Comments

NMFS is requesting comments on any of the measures or analyses described in this proposed rule. During the comment period, NMFS will hold one conference call and webinar for this proposed rule. The conference call and webinar will be held on June 5, 2014, from 1:00-4:00pm EST. Please see the DATES and ADDRESSES headings for more information.

The public is reminded that NMFS expects participants on phone conferences to conduct themselves appropriately. At the beginning of the conference call, a representative of NMFS will explain the ground rules (e.g., all comments are to be directed to the agency on the proposed action; attendees will be called to give their comments in the order in which they registered to speak; each attendee will have an equal amount of time to speak; attendees may not interrupt one another; etc.). NMFS representative(s) will structure the meeting so that all attending members of the public will be able to comment, if they so choose, regardless of the controversial nature of the subject(s). Attendees are expected to respect the ground rules, and those that do not may be removed from the conference call.

Classification

Pursuant to the Magnuson-Stevens Act, the NMFS Assistant Administrator has determined that the proposed rule is consistent with the 2006 Consolidated HMS FMP and its amendments, other provisions of the Magnuson-Stevens Act, the Atlantic Tuna Convention Act, and other applicable law, subject to further consideration after public comment.

This proposed rule has been determined to be not significant for purposes of Executive Order 12866.

NMFS determined that the proposed rules to implement the North Atlantic swordfish quota framework (77 FR 25669, May 1, 2012) and South Atlantic swordfish quota framework (75 FR 35432, June 22, 2010) are consistent to the maximum extent practicable with the enforceable policies of the approved coastal management program of coastal states on the Atlantic including the Gulf of Mexico and the Caribbean Sea. Pursuant to 15 CFR 930.41(a), NMFS provided the Coastal Zone Management Program of each coastal state a 60-day period to review the consistency determination and to advise the Agency of their concurrence. NMFS received concurrence with the consistency determinations from several states and inferred consistency from those states that did not respond within the 60-day time period. This proposed action to establish the 2014 North and South Atlantic swordfish quotas does not change the framework previously consulted upon; therefore, no additional consultation is required.

The Chief Council for Regulation of the Department of Commerce certified to the Chief Council for Advocacy of the Small Business Administration that this proposed rule, if adopted, would not have a significant economic impact on a substantial number of small entities because the proposed quota adjustments are the same as in 2013 and the United States is not expected to catch its entire quota in 2014.

As described above, this proposed rule would adjust the 2014 baseline quota for North Atlantic swordfish (January 1, 2014, through December 31, 2014) to account for 2013 underharvests as allowable and international quota transfers per § 635.27(c)(1)(i) and (3)(ii) based on ICCAT recommendation 13-02. The United States can carry over 2013 underharvest at a level not to exceed 25 percent of the baseline quota. This proposed rule would also change the limit of underharvest accrued in 2014 and beyond to 15 percent of a contracting party's baseline quota. Additionally, ICCAT Recommendation 13-02 stipulates that the United States transfer 18.8 mt dw (25 mt ww) of quota to Mauritania.

In 2013, U.S. fishermen landed 2,028.8 mt dw of North Atlantic swordfish as of December 31, 2013, leaving 1,480.4 mt dw of quota underharvest. This underharvest amount exceeds the maximum underharvest carryover of 734.4 mt dw, therefore, only 734.4 mt dw of 2013 underharvest would be carried over and added to the 2014 baseline quota. The quota transfer of 18.8 mt dw to Mauritania would be deducted, leaving a proposed 2014 North Atlantic swordfish adjusted quota of 3,653.2 mt dw (Table 1).

This proposed rule would also adjust the 2014 baseline quota for South Atlantic swordfish (January 1, 2014, through December 31, 2014) to account for 2013 underharvests and international quota transfers per § 635.27(c)(1)(ii) and (3)(ii) based on ICCAT Recommendation 13-03. The United States can carry over 2013 underharvest at a level not to exceed 100 percent of the baseline quota. Additionally, ICCAT Recommendation 13-03 stipulates that the United States transfer the following quota amounts to other countries: 37.6 mt dw (50 mt ww) to Namibia; 18.8 mt dw (25 mt ww) to Côte d'Ivoire; and 18.8 mt dw (25 mt ww) to Belize.

In 2013, U.S. fishermen landed 0.1 mt dw of South Atlantic swordfish as of December 31, 2013. Therefore, 75.1 mt dw of underharvest is available to carry over to 2014. NMFS is proposing to carry forward 75.1 mt dw to be added to the 75.2 mt dw base quota. The quota would then be reduced by the 75.2 mt dw of annual international quota transfers outlined above, resulting in 2014 South Atlantic swordfish adjusted quota of 75.1 mt dw (Table 1).

The commercial swordfish fishery is comprised of fishermen who hold one of three swordfish limited access permits (LAPs) (i.e., directed, incidental, or handgear), fishermen who hold a new swordfish general commercial permit, fishermen who hold an HMS incidental squid trawl permit, and the related industries including processors, bait houses, and equipment suppliers. NMFS considers all participants in the commercial swordfish fishery to be small entities, based on the relevant NAICS codes and size standards set by the Small Business Administration (SBA). Under 5 U.S.C. 604(a)(3), Federal agencies must provide an estimate of the number of small entities to which the rule would apply. The Small Business Administration (SBA) has established size criteria for all major industry sectors in the United States, including fish harvesters. Previously, a business involved in fish harvesting was classified as a small business if it is independently owned and operated, is not dominant in its field of operation (including its affiliates), and has combined annual receipts not in excess of $4.0 million (NAICS code 114111, finfish fishing) for all its affiliated operations worldwide. On June 20, 2013, SBA issued a final rule revising the small business size standards for several industries effective July 22, 2013 (78 FR 37398; June 20, 2013). The rule increased the size standard for Finfish Fishing from $4.0 to 19.0 million, Shellfish Fishing from $4.0 to 5.0 million, and Other Marine Fishing from $4.0 to 7.0 million. NMFS has reviewed the analyses prepared for this action in light of the new size standards. Under the former, lower size standards, all entities subject to this action were considered small entities, thus they all would continue to be considered small under the new standards. The new size standards do not affect analyses prepared for this action.

As of November 2013, there were approximately 179 vessels with a directed swordfish LAP, 67 vessels with an incidental swordfish LAP, 76 vessels with a handgear LAP for swordfish, and 203 vessels that held a swordfish general commercial permit. Additionally, there were approximately 74 HMS incidental squid trawl permit holders, which allow vessels in the Illex squid fishery to retain up to 15 incidentally-caught swordfish while trawling for squid. Based on the 2013 average price for swordfish of $4.69/lb (based on 2013 eDealer data), the 2014 North and South Atlantic swordfish baseline quotas could result in gross revenues of $30,373,533 (2,937.6 mt dw (6,476,233 lbs dw) * $4.69/lb) and $776,927 (75.1 mt dw (165,565 lbs dw) * $4.69/lb), respectively, if the quotas were fully utilized. Under the adjusted quotas of 3,653.2 mt dw (8,053,845 lbs dw) for North Atlantic swordfish and 75.1 mt dw (165,565 lbs dw) for South Atlantic swordfish, the gross revenues could be $37,772,533 and $776,927, respectively, for fully utilized quotas.

Potential revenues per vessel resulting from full utilization of the adjusted quotas, could be $59,295 for the North Atlantic swordfish fishery and $4,340 for the South Atlantic swordfish fishery, considering a total of 599 swordfish permit holders in the North Atlantic and 179 directed permit holders in the South Atlantic. The North Atlantic estimate, however, represents an average across all permit types, despite permit differences in retention limits, target species, and geographical range. For North Atlantic swordfish, directed swordfish permit holders would likely experience higher than average per-vessel ex-vessel revenues due to the use of pelagic longline gear and the lack of a retention limit per trip, although trip expenses are likely to be fairly high. HMS incidental squid trawl permit holders would likely experience per vessel ex-vessel revenues well below those received by pelagic longline vessels due to the low retention limit per trip (15 swordfish) and because these vessels do not target swordfish and only catch them incidentally. Swordfish general commercial permit holders would likely experience lower than average per-vessel ex-vessel revenues, despite higher ex-vessel prices and lower fishing expenses. Historically, U.S. fishermen do not often harvest the full North Atlantic swordfish quota. In addition, the 2014 proposed quota is the same as the 2013 quota for North Atlantic swordfish, therefore there are no economic impacts expected due to this proposed rulemaking setting the 2014 quota. For South Atlantic swordfish, only directed swordfish permit holders can land these fish; therefore, potential revenue per vessel is higher than the average for these directed swordfish permit holders since the other permit types land no swordfish. Additionally, U.S. fishermen rarely catch South Atlantic swordfish. Over the past 5 years, only 0.3 mt dw of South Atlantic swordfish catch has been reported.

Because the United States' commercial swordfish fishery is not expected to catch its entire quota in 2014, the adjustments to the quota and management measures proposed in this rule will not have a significant impact on a substantial number of small entities. As a result, no initial regulatory flexibility analysis is required, and none has been prepared.

List of Subjects in 50 CFR Part 635

Fisheries, Fishing, Fishing vessels, Foreign relations, Imports, Penalties, Reporting and recordkeeping requirements, Treaties.

Dated: May 9, 2014.
Samuel D. Rauch III,
Deputy Assistant Administrator for Regulatory Programs, National Marine Fisheries Service.

For reasons set out in the preamble, 50 CFR part 635 is proposed to be amended as follows:

PART 635—ATLANTIC HIGHLY MIGRATORY SPECIES

1. The authority citation for part 635 continues to read as follows:

Authority: 16 U.S.C. 971 et seq.; 16 U.S.C. 1801 et seq.

2. In § 635.27, paragraph (c)(3)(ii) is revised to read as follows:

§ 635.27 Quotas.

* * * * *

(c) * * *

(3) * * *

(ii) If consistent with applicable ICCAT recommendations, total landings above or below the specific North Atlantic or South Atlantic swordfish annual quota will be subtracted from, or added to, the following year's quota for that area. As necessary to meet management objectives, such adjustments may be apportioned to fishing categories and/or to the reserve. Carryover adjustments for the North Atlantic shall be limited to 25 percent of the baseline quota allocation for that year. Starting in the 2015 fishing year, carryover adjustments shall be limited to 15 percent of the annual baseline quota allocation. Carryover adjustments for the South Atlantic shall be limited to 100 mt ww (75.2 mt dw) for that year. Any adjustments to the 12-month directed fishery quota will be apportioned equally between the two semiannual fishing seasons. NMFS will file with the Office of the Federal Register for publication any adjustment or apportionment made under this paragraph.

* * * * *

[FR Doc. 2014-11052 Filed 5-13-14; 8:45 am]

BILLING CODE 3510-22-P